DEPARTMENT OF COMMERCE

International Trade Administration

[A-549-817]

Notice of Extension of Time Limit for Preliminary Results of Antidumping Duty Administrative Review: Certain Hot-Rolled Carbon Steel Flat Products From Thailand

AGENCY: Import Administration, International Trade Administration, Department of Commerce.

EFFECTIVE DATE: July 11, 2005.

FOR FURTHER INFORMATION CONTACT: Stephen Bailey, AD/CVD Operations, Office 7, Import Administration, International Trade Administration, U.S. Department of Commerce, 14th Street and Constitution Avenue, NW, Washington, DC 20230, at (202) 482-0193.

SUPPLEMENTARY INFORMATION:

Background

The Department of Commerce (“the Department”) received timely requests for administrative review of the antidumping duty order on certain hot-rolled carbon steel flat products from Thailand, with respect to Sahaviriya Steel Industries Public Company Limited (“SSI”) on November 30, 2004 from both SSI and domestic producer Nucor Corporation. Also on November 30, 2004, the Department received a request for administrative review of the same order for SSI, Nakornthai Strip Mill Public Co., Ltd., and G Steel Public Company Limited (formerly Siam Strip Mill Public Co., Ltd.) from United States Steel Corporation. On December 27, 2004, the Department published a notice of initiation of this administrative review for the period of November 1, 2003, through October 31, 2004. See Notice of Initiation of Antidumping and Countervailing Duty Administrative Reviews and Request for Revocation in Part, 69 FR 77181 (December 27, 2004).

Extension of Time Limits for Preliminary Results

Pursuant to section 751(a)(3)(A) of the Tariff Act of 1930, as amended (“the Act”), the Department shall issue preliminary results in an administrative review of an antidumping duty order within 245 days after the last day of the anniversary month of the date of publication of the order. The Act further provides, however, that the Department may extend that 245-day period to 365 days if it determines it is not practicable to complete the review within the foregoing time period.

In light of the complexity of analyzing SSI's sales data of its multiple affiliates, its cost calculations and the control number reporting methodology for various products, it is not practicable to complete this review by the current deadline of August 2, 2005. Therefore, in accordance with section 751(a)(3)(A) of the Act, the Department is extending the time limit for the preliminary results until November 30, 2005, which is 365 days after the last day of the anniversary month of the date of publication of the order. The final results continue to be due 120 days after the publication of the preliminary results, in accordance with section 351.213 (h) of the Department's regulations.

This notice is issued and published in accordance to sections 751(a)(1) and 777(i)(1) of the Act.

Dated: June 30, 2005.
Barbara E. Tillman,
Acting Deputy Assistant Secretary for Import Administration.

[FR Doc. 05-13499 Filed 7-8-05; 8:45 am]

BILLING CODE 3510-DS-S